DEPARTMENT OF TRANSPORTATION

Federal Aviation Administration

14 CFR Part 39

[Docket No. FAA-2014-0364; Directorate Identifier 2013-SW-041-AD; Amendment 39-18234; AD 2015-17-01]

RIN 2120-AA64

Airworthiness Directives; Airbus Helicopters (Previously Eurocopter France) (Airbus Helicopters) Helicopters

AGENCY: Federal Aviation Administration (FAA), DOT.

ACTION: Final rule.

SUMMARY: We are superseding Airworthiness Directive (AD) 2013-21-01 for Eurocopter France Model AS350B, AS350BA, AS350B1, AS350B2, AS350B3, AS350C, AS350D, AS350D1, AS355E, AS355F, AS355F1, AS355F2, AS355N, and AS355NP helicopters. AD 2013-21-01 required certain inspections of each tail rotor pitch horn assembly (pitch horn) for a crack, replacing a cracked pitch horn before further flight, and a one-time visual inspection of pitch horns above certain hours time-in-service (TIS). This new AD retains the requirements of AD 2013-21-01 but requires a repetitive visual inspection for all pitch horns regardless of hours TIS. This AD was prompted by a report of a crack in the yoke of a pitch horn and is intended to detect a crack in the pitch horn to prevent failure of the pitch horn, loss of the anti-torque function, and subsequent loss of control of the helicopter.

DATES: This AD is effective September 24, 2015.

The Director of the Federal Register approved the incorporation by reference of certain documents listed in this AD as of October 25, 2013 (78 FR 63853, October 25, 2013).

ADDRESSES: For service information identified in this AD, contact Airbus Helicopters, Inc., 2701 N. Forum Drive, Grand Prairie, TX 75052; telephone (972) 641-0000 or (800) 232-0323; fax (972) 641-3775; or at http://www.airbushelicopters.com/techpub. You may view this referenced service information at the FAA Office of the Regional Counsel, Southwest Region, 10101 Hillwood Pkwy, Room 6N-321, Fort Worth, Texas 76177.

Examining the AD Docket

You may examine the AD docket on the Internet at http://www.regulations.gov by searching for and locating Docket No. FAA-2014-0364; or in person at the Docket Management Facility between 9 a.m. and 5 p.m., Monday through Friday, except Federal holidays. The AD docket contains this AD, the European Aviation Safety Agency (EASA) AD, any incorporated-by-reference information, the economic evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Robert Grant, Aviation Safety Engineer, Safety Management Group, FAA, 10101 Hillwood Pkwy, Fort Worth, Texas 76177; telephone (817) 222-5110; email robert.grant@faa.gov.

SUPPLEMENTARY INFORMATION:

Discussion

On May 30, 2014, we issued a notice of proposed rulemaking (NPRM) (79 FR 32881, June 9, 2014) to amend 14 CFR part 39 to remove AD 2013-21-01, Amendment 39-17625 (78 FR 63853, October 25, 2013) and add a new AD. AD 2013-21-01 applied to Eurocopter France Model AS350B, AS350BA, AS350B1, AS350B2, AS350B3, AS350C, AS350D, AS350D1, AS355E, AS355F, AS355F1, AS355F2, AS355N, and AS355NP helicopters and required a one-time visual inspection of each pitch horn with 135 or more hours TIS for a crack and replacing the pitch horn if there is a crack. AD 2013-21-01 also required a dye-penetrant inspection of any pitch horn before it is installed. AD 2013-21-01 was prompted by AD No. 2013-0133, dated June 28, 2013, issued by EASA, which is the Technical Agent for the Member States of the European Union, to correct an unsafe condition for Model AS350B, AS350BA, AS350BB, AS350B1, AS350B2, AS350B3, AS350D, AS355E, AS355F, AS355F1, AS355F2, AS355N, and AS355NP helicopters. EASA advises of an ongoing investigation of a crack in the yoke of a pitch horn for which a cause has not been determined. The EASA AD requires repetitive visual inspections of each pitch horn for a crack and replacing the pitch horn with a serviceable assembly if a crack is found.

The NPRM proposed to continue to require the visual inspection for the pitch horn but to require it for all pitch horns regardless of hours TIS. The NPRM also proposed to require repeating the visual inspection every 165 hours TIS and changing the requirement for the dye penetration inspection so that it only applies to pitch horns that are not new. Also, since we issued AD 2013-12-01, Eurocopter France changed its name to Airbus Helicopters. The NPRM proposed to reflect that change.

Comments

We gave the public the opportunity to participate in developing this AD, but we did not receive any comments on the NPRM (79 FR 32881, June 9, 2014).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed.

Interim Action

We consider this AD to be an interim action. If final action is later identified, we might consider further rulemaking then.

Differences Between This AD and the EASA AD

The EASA AD applies to Eurocopter Model AS350BB that does not have an FAA type certificate and therefore is not a part of this AD. The EASA AD does not apply to Eurocopter Model AS350C or AS350D1, but this AD does because those models have an FAA type certificate and may have the applicable pitch horn installed. This AD requires a dye-penetrant inspection before installing a pitch horn; the EASA AD does not.

Related Service Information Under 1 CFR Part 51

We reviewed a Eurocopter (now Airbus Helicopters) Emergency Alert Service Bulletin (EASB), Revision 1, dated June 25, 2013, with four different numbers. EASB No. 05.00.74 is for Model AS350B, B1, B2, B3, BA, and D helicopters; and EASB No. 05.00.65 is for Model AS355E, F, F1, F2, N, and NP helicopters. EASB No. 05.00.74 and EASB No. 05.00.65 are co-published as one document along with EASB No. 05.00.49 and EASB No. 05.00.44, which are not incorporated by reference in this AD. These EASBs specify Airbus Helicopters has been informed of a case of a crack on the yoke of a pitch horn, which may lead to failure of the pitch horn, resulting in loss of the anti-torque function. These EASBs specify a check for cracks on the yokes of the two pitch horns and specifies replacing any cracked pitch horn. These EASBs state that it may be necessary to modify the log card of the tail rotor blade assembly due to some of the pitch horn part numbers being recorded incorrectly. This service information is reasonably available because the interested parties have access to it through their normal course of business or by the means identified in the ADDRESSES section of this AD.

EASA classified these EASBs as mandatory and issued EASA AD No. 2013-0133, dated June 28, 2013, to ensure the continued airworthiness of these helicopters.

Costs of Compliance

We estimate that this AD will affect 938 helicopters of U.S. Registry. We estimate that operators may incur the following costs in order to comply with this AD. Labor costs are estimated at $85 per work hour. We estimate 0.1 work hours to visually inspect a pitch horn for a total cost of $8.50 per helicopter or $7,973 for the fleet, per inspection cycle. We estimate 1 work hour to do a dye-penetrant inspection for a total cost of $85 per helicopter. We estimate 1 work hour to replace a part, if necessary, and a cost for required parts of $1,946, for a total cost of $2,031 per helicopter.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction; and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-21-01, Amendment 39-17625 (78 FR 63853, October 25, 2013), Docket No. FAA-2013-0878, Directorate Identifier 2013-SW-033-AD, and adding the following new AD:

2015-17-01 Airbus Helicopters (Previously Eurocopter France) (Airbus Helicopters): Amendment 39-18234; Docket No. FAA-2014-0364; Directorate Identifier 2013-SW-041-AD.

(a) Applicability

This AD applies to Airbus Helicopters Model AS350B, AS350BA, AS350B1, AS350B2, AS350B3, AS350C, AS350D, AS350D1, AS355E, AS355F, AS355F1, AS355F2, AS355N, and AS355NP helicopters with tail rotor hub pitch horn (pitch horn) assembly, part number (P/N) 350A121368.01, 350A121368.02, 350A121368.03, or 350A121368.04, with a pitch horn, P/N 350A121368.XX, where XX stands for a two-digit dash number, installed, certificated in any category. The pitch horn may be marked with either the pitch horn assembly P/N or pitch horn P/N.

(b) Unsafe Condition

This AD defines the unsafe condition as a crack in the yoke of a pitch horn. This condition could result in failure of a pitch horn, loss of the anti-torque function, and subsequent loss of control of the helicopter.

(c) Affected ADs

This AD supersedes 2013-21-01, Amendment 39-17625 (78 FR 63853, October 25, 2013).

(d) Effective Date

This AD becomes effective September 24, 2015.

(e) Compliance

You are responsible for performing each action required by this AD within the specified compliance time unless it has already been accomplished prior to that time.

(f) Required Actions

(1) For parts with 155 or less hours time-in-service (TIS), before exceeding 165 hours TIS, or for parts with more than 155 hours TIS, within 10 hours TIS, and thereafter at intervals not to exceed 165 hours TIS, visually inspect each pitch horn for a crack in the areas shown in Figure 1 of Eurocopter Emergency Alert Service Bulletin (EASB) No. 05.00.74 or No. 05.00.65, both Revision 1 and both dated June 25, 2013, as appropriate for your model helicopter.

(2) If there is a crack, before further flight, replace the pitch horn with an airworthy pitch horn.

(3) Do not install a pitch horn, P/N 350A121368 (any dash number), with more than 0 hours TIS on any helicopter unless it has passed a dye penetrant inspection for a crack in the areas shown in Figure 1 of Eurocopter EASB No. 05.00.74 or No. 05.00.65, both Revision 1 and both dated June 25, 2013, as appropriate for your model helicopter.

(g) Special Flight Permits

Special flight permits are prohibited.

(h) Alternative Methods of Compliance (AMOCs)

(1) The Manager, Safety Management Group, FAA, may approve AMOCs for this AD. Send your proposal to: Robert Grant, Aviation Safety Engineer, Safety Management Group, FAA, 10101 Hillwood Pkwy, Fort Worth, Texas 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(i) Additional Information

The subject of this AD is addressed in European Aviation Safety Agency (EASA) AD No. 2013-0133, dated June 28, 2013. You may view the EASA AD on the Internet at http://www.regulations.gov in Docket No. FAA-2014-0364.

(j) Subject

Joint Aircraft Service Component (JASC) Code: 6400 Tail Rotor.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on October 25, 2013 (78 FR 63853, October 25, 2013).

(i) Eurocopter Emergency Alert Service Bulletin No. 05.00.74, Revision 1, dated June 25, 2013.

(ii) Eurocopter Emergency Alert Service Bulletin No. 05.00.65, Revision 1, dated June 25, 2013.

Note 1 to paragraph (k)(3) of this AD: Eurocopter Emergency Alert Service Bulletin No. 05.00.74 and No. 05.00.65, both Revision 1, and both dated June 25, 2013, are co-published as one document along with Eurocopter Emergency Alert Service Bulletin No. 05.00.49 and No. 05.00.44, both Revision 1, and both dated June 25, 2013, which are not incorporated by reference in this AD.

(4) For Eurocopter service information identified in this AD, contact Airbus Helicopters, Inc., 2701 N. Forum Drive, Grand Prairie, TX 75052; telephone (972) 641-0000 or (800) 232-0323; fax (972) 641-3775; or at http://www.airbushelicopters.com/techpub.

(5) You may view this service information at FAA, Office of the Regional Counsel, Southwest Region, 10101 Hillwood Pkwy, Room 6N-321, Fort Worth, Texas 76177. For information on the availability of this material at the FAA, call (817) 222-5110.

(6) You may view this service information that is incorporated by reference at the National Archives and Records Administration (NARA). For information on the availability of this material at NARA, call (202) 741-6030, or go to: http://www.archives.gov/federal-register/cfr/ibr-locations.html.

Issued in Fort Worth, Texas, on August 6, 2015.
Larry M. Kelly,
Acting Directorate Manager, Rotorcraft Directorate, Aircraft Certification Service.

[FR Doc. 2015-20510 Filed 8-19-15; 8:45 am]

BILLING CODE 4910-13-P